DEPARTMENT OF THE INTERIOR

National Park Service

[NPS-IMR-GLAC-12985; PPIMGLAC00, PANFHAT44.YP0000]

Going-to-the-Sun Road Corridor Management Plan, Environmental Impact Statement, Glacier National Park, Montana

AGENCY: National Park Service, Interior.

ACTION: Notice of intent.

SUMMARY: Pursuant to the National Environmental Policy Act of 1969, the National Park Service is preparing an Environmental Impact Statement for the Going-to-the-Sun Road Corridor Management Plan for Glacier National Park, Montana. This effort will result in an integrated visitor and transportation management plan for the Going-to-the Sun Road (GTSR) corridor.

DATES: The National Park Service will accept comments from the public through August 19, 2013.

ADDRESSES: Information will be available for public review and comment online at http://parkplanning.nps.gov/glac, and at the Park's Information Desk at Headquarters in West Glacier Montana at (406) 888-7800.

FOR FURTHER INFORMATION CONTACT: Mary Riddle, Chief of Planning and Compliance, Glacier National Park, P.O. Box 128 West Glacier, Montana 59936; or via telephone at (406) 888-7898.

SUPPLEMENTARY INFORMATION: A range of alternatives including no action will be developed that address long term financial sustainability of the park's shuttle system, management of visitor use, and congestion and protection of natural and cultural resources in the GTSR corridor. The Plan will also explore management approaches that can be adapted to changing conditions, identify triggers or standards and indicators and develop monitoring system to assure protection of resources and continue to provide a quality visitor experience.

A scoping brochure and other materials describing the issues and overall purpose of the project will be prepared and distributed to the public including Tribes, federal, state local agencies and specific interest groups. Information may be obtained from the internet site: http://parkplanning.nps.gov/glac, and from the Park's Information Desk at Glacier National Park, Headquarters, P.O. Box 128, West Glacier, Montana 59936; or via telephone at (406) 888-7800.

If you wish to comment on the scoping brochure or on any other issues associated with the plan, you may submit your comments by any one of several methods. You may mail comments to Glacier National Park Attn: GTSR Corridor Plan P.O. Box 128 West Glacier, Montana 59936. You may also comment via the Internet at http://parkplanning.nps.gov/glac. Finally, you may hand-deliver comments to Glacier National Park Headquarters, West Glacier Montana. Before including your address, phone number, email address, or other personal identifying information in your comment, you should be aware that your entire comment—including your personal identifying information—may be made publicly available at any time. While you can ask us in your comment to withhold your personal identifying information from public review, we cannot guarantee that we will be able to do so.

Dated: June 6, 2013.
Laura E. Joss,
Deputy Regional Director, Chief of Staff, Intermountain Region.

[FR Doc. 2013-17375 Filed 7-18-13; 8:45 am]

BILLING CODE 4312-CB-P